DEPARTMENT OF LABOR

Employment And Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of November and December 2004.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-56,046; Burrows Paper Corp., Pulp Div., Little Falls, NY

TA-W-55,838; Carolina Steel, Lynchburg, VA

TA-W-55,708; Alcatel USA Resources, EF&I Group, Plano, TX

TA-W-55,820; Thermal and Interior, Vandalia Operations of Delphi Corp., Vandalia, OH

TA-W-55,831; Cardinal Health PTS LLC, Vegicaps Oral Technologies Div., Springville, UT

TA-W-56,065; River Valley Contract Manufacturing, Inc., Menifee, AR

TA-W-55,918; Alpha Spectra, Inc., Grand Junction, CO

TA-W-55,806; Value Line Supply Co., Arkadelphia, AR

TA-W-55,842; Upholstery Felt Co., Portland, OR

TA-W-55,965; Accidental Anomalies, Inc., Turner, ME

The workers firm does not produce an article as required for certification under Section 222 of the Trade Act of 1974.

TA-W-56,029; Underwriters Laboratories, Inc., Research Triangle Park, NC

TA-W-56,051; Cambria Somerset Authority, Wilmore and Hinkston Reservoirs, Johnstown, PA

TA-W-55,890; Gwinnett Medical Center, Lawrenceville, GA

TA-W-55,957; Stellar Engineering, Inc., Warren, MI

TA-W-55,884; Jordan Fashions Corp., Westbury, NY

TA-W-55,961; Thomas & Betts Corp., Heater Div., Jonesboro, AR

TA-W-55,995; Conocophilips, Downstream Technology Div., Ponca City, OK

TA-W-56,044; Ametek—Prestolite Power & Switch, Switch Business Unit, Troy, OH

The investigation revealed that criterion (a)(2)(A)(I.A) and (a)(2)(B)(II.A) (no employment decline) has not been met.

TA-W-55,864; The Glass Group, Inc., Flat River Glass Operations, Park Hills, MO

TA-W-55,817; Celanese, Ticona Div., Bishop, TX

The investigation revealed that criterion (a)(2)(A)(I.B) (Sales or production, or both, did not decline) and (a) (2)(B)(II.B) (has shifted production to a county not under the free trade agreement with U.S.) have not been met.

TA-W-55,810; Honeywell, Inc., Honeywell Hobbs Div., Drafting and Design Department, Springfield, IL

TA-W-55,924; Castle Industries LLC, Greenville, SC High Point, NC

The investigation revealed that criteria (a)(2)(A) (I.C) increased imports and (II.C) (has shifted production to a foreign country) have not been met.

TA-W-55,845; Maha USA, LLC, Pinckard, AL

TA-W-55,898; Glenshaw Glass Co., Glenshaw, PA

TA-W-55,973; Celanese Acetate LLC, including on-site leased workers of Venturi Staffing, Rock Hill, SC

TA-W-55,833; Brooks-Pri Automation, Inc., including leased workers of Davis Companies and Footbridge, Chelmsford, MS

The investigation revealed that criteria (2) has not been met.

The workers firm (or subdivision) is not a supplier or downstream producer to trade-affected companies.

TA-W-55,848; Crotty Corp., Quincy, MI

Affirmative Determinations for Worker Adjustment Assistance

The following certifications have been issued; the date following the company name and location of each determination references the impact date for all workers of such determination.

The following certifications have been issued. The requirements of (a)(2)(A) (increased imports) of Section 222 have been met.

TA-W-55,987; Romar Textile Co., Inc., Ellwood City, PA: November 11, 2003.

TA-W-55,859; C&H Fashions, Inc., San Francisco, CA: September 29, 2003.

TA-W-55,952; CMD Apparel, LLC, Detroit, AL: November 5, 2003.

TA-W-55,850; Hill Fastener Corp., Rock Falls, IL: October 20, 2003.

TA-W-55,835; ITT Industries, C&K Switch Components, Inc., C&K Switch Products Div., Newton, MA: October 18, 2003.

TA-W-55,822; ZLB Behring LLC, Bradley, IL: October 18, 2003.

TA-W-55,808; Ford Motor Co., St. Louis Assembly Plant, Hazelwood, MO: October 12, 2003.

TA-W-55,805; K2F Garment, Inc., Huntington Park, CA: October 5, 2003.

TA-W-55,718; Halstab, Div. of Hammond Group, Inc., Hammond, IN: September 9, 2003.

TA-W-55,922; Oldham Saw Co., a subsidiary of Black and Decker, including workers of The Woodworker's Choice and leased workers of Manpower, West Jefferson, NC: October 25, 2003.

TA-W-55,883; Hitachi Electronic Devices, Inc., Greenville, SC: October 5, 2004.

TA-W-55,862; Piedmont Home Textiles, Walhalla, SC: October 22, 2003.

TA-W-56,008; N.J.L. Coat, Clifton, NJ: September 13, 2003.

TA-W-55,999; Schneider Mills, Inc., Alexander Mills Division, Forest City, NC: November 12, 2003.

TA-W-55,829-A; Excell Home Fashions, Inc., a wholly owned subsidiary of Glenoit, LLC, including on-site leased workers of Mega Force Temporary Services, Goldsboro, NC and Tarboro, NC: October 14, 2003.

TA-W-55,749; Troy LLC, Harrisville, WV: October 1, 2003.

TA-W-55,847; Whitewater Mold, Inc., Traverse City, MI: October 18, 2003.

TA-W-55,846; Hewlett-Packard Co., Imaging and Printing Group-Personal Inkjet Printing Division, Vancouver, WA: October 21, 2003.

TA-W-55,915; Freudenberg Nonwovens, LP, Interlinings Div., Madison, TN: November 2, 2003.

TA-W-55,945 & A; Louisville Ladder Group, a subsidiary of Imsalum, Smyrna, TN and Corporate Location, Louisville, KY: November 1, 2003.

TA-W-55,944; Premium Allied Tool, Inc., a division of The Hines Group, Owensboro, KY: October 19, 2003.

TA-W-55,886; Whiting Manufacturing Co., Inc., Corporate Offices, Fairfield, OH: September 28, 2003.

TA-W-55,875; Hedstrom Corp., Hazlehurst, GA: October 13, 2003.

TA-W-55,866; SCP Global Technologies, Inc., Boise, ID: June 21, 2004.

The following certifications have been issued. The requirements of (a)(2)(B) (shift in production) of Section 222 have been met.

TA-W-55,857; Kamei Garment Co., Inc., San Francisco, CA: September 29, 2003.

TA-W-56,021; Nippon Metalworking U.S.A., Inc., Woodbury, GA: November 2, 2003.

TA-W-55,917; Precision Dynamics Corp., San Fernando, CA: October 21, 2003.

TA-W-55,981; Cerf Brothers Bag Co., New London, MO: November 11, 2003.

TA-W-55,879; Sun Microsystems, World Wide Operations Division, Building 10, Newark, CA: October 25, 2003.

TA-W-56,027; Jenn-Tom Hosiery, Connelly Springs, NC: November 16, 2003.

TA-W-55,854; Amcor PET Packaging, Merimack, NH: October 22, 2003.

TA-W-55,937; Cherry Corp., Cherry Automotive Division, Waukegan, IL: May 7, 2004.

TA-W-55,899; Merchants Metals, a division of MMI Products, Inc., San Fernando, CA: October 13, 2003.

TA-W-55,946; Sanmina—SCI Corp., Global Engineering and Design Group, Salem, NH: November 3, 2003.

TA-W-55,912; Better Bags, Inc., Manufacturing Div., Houston, TX: October 29, 2003.

TA-W-55,896; Turex, Engineered Films Div., a subsidiary of Pliant Corp., Harrisville, RI: October 28, 2003.

TA-W-56,033; Dura Operating Corp., Cable Division, including leased workers of Sperion, Brookfield, MO: November 16, 2003.

TA-W-55,913; Harper Pet Products, Inc., Chicago, IL: November 3, 2003.

TA-W-55,892; Learjet, Inc., Indianapolis, IN: October 27, 2003.

TA-W-55,966; Vesuvius USA Corp., Hillsboro, TX: November 8, 2003.

TA-W-55,927; A-One Hosiery, Fort Payne, AL: November 2, 2003.

TA-W-55,914; American Uniform Co., Headquarters/Cleveland Plant, Cleveland, TN: November 3, 2003.

TA-W-56,031; E-Z-EM, Inc., Westbury, NY: November 3, 2003.

TA-W-56,003; Chicago Miniature Lamp, a division of SLI Holdings International, LLC, Wynnewood, OK: November 1, 2003.

TA-W-56,013; Clinton Tube (USA), Plattsburgh, NY: November 16, 2003.

TA-W-55,992; Elcom Wire Plant, including leased workers of Kelly Services, El Paso, TX: November 10, 2003.

TA-W-55,974; Schnadig Corp., 101-Cornelia Div., including on-site leased workers of Etcon Staffing Agency, Cornelia, GA: November 5, 2003.

TA-W-55,972; AMI Semiconductor, Inc., Pocatello Sort Operations, including leased workers of Express Personnel, Pocatello, ID: October 30, 2003.

TA-W-56,043; Diageo Chateau & Estate Wines, Carneros Production & Distribution Facility, including leased Workers of Remedy Intelligent Staffing, Alkar, Yoh Scientific and Nelson, Sonoma, CA: November 10, 2003.

TA-W-55,985; Hobino Corporation of America, Gainesville, GA: November 9, 2003.

TA-W-55,969; Oxford Slacks, a subsidiary of Oxford Industries, Inc., Monroe, GA: March 19, 2004.

TA-W-56,039; Whittier Wood Products, including on-site leased workers of Oregon Temporary, Barret Staffing Services, Pearl Buck, Selectemp, Personnel Solutions, Labor Ready and Employers Overload, Eugene, OR: November 16, 2003.

Negative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

The Department has determined that criterion (2) of Section 246 has not been met. Workers at the firm possess skills that are easily transferable.

TA-W-55,899; Merchants Metals, a division of MMI Products, Inc., San Francisco, CA

TA-W-55,937; Cherry Corp., Cherry Automotive Div., Waukegan, IL

TA-W-55,854; Amcor PET Packaging, Merrimack, NH

TA-W-55,952; CMD Apparel, LLC, Detroit, AL

TA-W-55,944; Premium Allied Tool, Inc., a division of The Hines Group, Owensboro, KY

The Department has determined that criterion (1) of Section 246 has not been met. Workers at the firm are 50 years of age or older. None

Since the workers are denied eligibility to apply for TAA, the workers cannot be certified eligible for ATAA.

TA-W-55,708; Alcatel USA Resources, EF&I Group, Plano, TX

TA-W-55,820; Thermal and Interior, Vandalia Operations of Delphi Corp., Vandalia, OH

TA-W-55,831; Cardinal Health PTS LLC, Vegicaps Oral Technologies Div., Springville, UT

TA-W-56,065; River Valley Contract Manufacturing, Inc., Menifee, AR

TA-W-55,918; Alpha Spectra, Inc., Grand Junction, CO

TA-W-55,806; Value Line Supple Co., Arkadelphia, AR

TA-W-55,842; Upholstery Felt Co., Portland, OR

TA-W-55,965; Accidental Anomalies, Inc., Turner, ME

TA-W-55,957; Stellar Engineering, Inc., Warren, MI

TA-W-55,884; Jordan Fashions Corp., Westbury, NY

TA-W-55,961; Thomas & Betts Corp., Heater Div., Jonesboro, AR

TA-W-55,995; Conocophilips, Downstream Technology Div., Ponca City, OK

TA-W-56,044; Ametek—Prestolite Power & Switch, Switch Business Unit, Troy, OH

TA-W-55,864; The Glass Group, Inc., Flat River Glass Operations, Park Hills, MO: Zenith Electronics Corp., a subsidiary of LG

TA-W-55,817; Celanese, Ticona Div., Bishop, TX

TA-W-55,810; Honeywell, Inc., Honeywell Hobbs Div., Drafting and Design Department, Springfield, IL

TA-W-55,924; Castle Industries LLC, Greenville, SC

TA-W-55,898; Glenshaw Glass Co., Glenshaw, PA

TA-W-55,845; Maha USA, LLC, Pinckard, AL

TA-W-55,973; Celanese Acetate LLC, including on-site leased workers of Venturi Staffing, Rock Hill, SC

TA-W-55,833; Brooks-Pri Automation, Inc., including leased workers of Davis Companies and Footbridge, Chelmsford, MA

TA-W-55,848; Crotty Corp., Quincy, MI

Affirmative Determinations for Alternative Trade Ajdustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-55,946; Sanmina—ACI Corp., Global Engineering and Design Group, Salem, NH: November 3, 2003.

TA-W-55,850; Hill Fastener Corp., Rock Falls, IL: October 20, 2003.

TA-W-55,835; ITT Industries, C&K Switch Components, Inc., C&K Switch Products Div., Newton, MA: October 18, 2003.

TA-W-55,822; ZLB Behring LLC, Bradley, IL: October 18, 2003.

TA-W-55,808; Ford Motor Company, St. Louis Assembly Plant, Hazelwood, MO: October 12, 2003.

TA-W-55,805; K2F Garment, Inc., Huntington Park, CA: October 5, 2003.

TA-W-55,718; Halstab, Div. of Hammond Group, Inc., Hammond, IN: September 9, 2003.

TA-W-55,922; Oldham Saw Co., a subsidiary of Black and Decker, including workers of The Woodworker's Choice and leased workers of Manpower, West Jefferson, NC: October 25, 2003.

TA-W-55,883; Hitachi Electronic Devices, Inc., Greenville, SC: October 5, 2004.

TA-W-55,862; Piedmont Home Textiles, Walhalla, SC: October 22, 2003.

TA-W-56,008; N.J.L. Coat, Clifton, NJ: September 13, 2003.

TA-W-55,999; Schneider Mills, Inc., Alexander Mills Div., Forest City, NC: November 12, 2003.

TA-W-55,829 & A; Excell Home Fashions, Inc., a wholly owned subsidiary of Glenoit, LLC, including on-site leased workers of Mega Force Temporary Services, Goldsboro, NC and Tarboro, NC: October 14, 2003.

TA-W-55,749; Troy LLC, Harrisville, WV: October 1, 2003.

TA-W-55,847; Whitewater Mold, Inc., Traverse City, MI: October 18, 2003.

TA-W-55,846; Hewlett-Packard Co., Imaging and Printing Group—Personal Inkjet Printing Div., Vancouver, WA: October 21, 2003.

TA-W-55,915; Freudenberg Nonwovens, LP, Interlinings Div., Madison, TN: November 2, 2003.

TA-W-55,945 & A; Louisville Ladder Group, a subsidiary of Imsalum, Smyrna, TN and Corporate Location,Louisville, KY: November 1, 2003.

TA-W-55,886; Whiting Manufacturing Co., Inc., Corporate Offices, Fairfield, OH: September 28, 2003.

TA-W-55,875; Hedstrom Corp., Hazlehurst, GA: October 13, 2003.

TA-W-55,866; SCP Global Technologies, Inc., Boise, ID: June 21, 2004.

TA-W-55,891; C.O.W. Industries, Inc., including leased workers of CBS Companies, Columbus, OH: September 22, 2002.

TA-W-54,354; Arvesta Corporation, Perry Div., Perry, OH: February 17, 2003 through March 26, 2006.

TA-W-55,912; Better Bags, Inc., Manufacturing Div., Houston, TX: October 29, 2003.

TA-W-53,344; Royal Appliance Manufacturing Co., a wholly owned subsidiary of Techtronic Industries, including leased workers of Snider-Blake, Inc., Glenwillow, OH and including leased workers of Snider-Blake, Inc., Mentor, OH: October 16, 2002 through November 17, 2005.

TA-W-55,896; Turex, Engineered Films Div., a subsidiary of Pliant Corp., Harrisville, RI: October 28, 2003.

TA-W-56,033; Dura Operating Corp., Cable Div., including leased workers of Sperion, Brookfield, MO: November 16, 2003.

TA-W-55,913; Harper Pet Products, Inc., Chicago, IL: November 3, 2003.

TA-W-55,892; Learjet, Inc., Indianapolis, IN: October 27, 2003.

TA-W-55,966; Vesuvius USA Corp., Hillsboro, TX: November 8, 2003.

TA-W-55,927; A-One Hosiery, Fort Payne, AL: November 2, 2003.

TA-W-55,914; American Uniform Company, Headquarters/Cleveland Plant, Cleveland, TN: November 3, 2003.

TA-W-56,031; E-Z-EM, Inc., Westbury, NY: November 3, 2003.

TA-W-56,013, Clinton Tube (USA), Plattsburgh, NY: November 16, 2003.

TA-W-56,003; Chicago Miniature Lamp, a division of SLI Holdings International, LLC, Wynnewood, OK: November 1, 2003.

TA-W-55,992; Elcom Wire Plant, including leased workers of Kelly Services, El Paso, TX: November 10, 2003.

TA-W-55,974; Schnadig Corportion, 101-Cornelia Div., including on-site leased workers of Etcon Staffing Agency, Cornelia, GA: November 5, 2003.

TA-W-55,972; AMI Semiconductor, Inc., Pocatello Sort Operations, including leased workers of Express Personnel, Pocatello, ID: October 30, 2003.

TA-W-56,043; Diageo Chateau & Estate Wines, Carneros Production & Distribution Facility, including leased workers of Remedy Intelligent Staffing, Alkar, Yoh Scientific and Nelson, Sonoma, CA: November 10, 2003.

TA-W-55,985; Hibino Corporation of America, Gainesville, GA: November 9, 2003.

TA-W-56,039; Whittier Wood Products, including on-site leased workers of Oregon Temporary, Barret Staffing Services, Pearl Buck, Selectemp, Personnel Source, Personnel Solutions, Labor Ready and Employers Overload, Eugene, OR: November 16, 2003.

TA-W-55,969; Oxford Slacks, a subsidiary of Oxford Industries, Inc., Monroe, GA: March 19, 2004.

I hereby certify that the aforementioned determinations were issued during the month of November and December 2004. Copies of these determinations are available for inspection in Room C-5311, U.S. Department of Labor, 200 Constitution Avenue, NW., Washington, DC 20210 during normal business hours or will be mailed to persons who write to the above address.

Dated: December 14, 2004.
Timothy Sullivan,
Director, Division of Trade Adjustment Assistance.

[FR Doc. E4-3778 Filed 12-21-04; 8:45 am]

BILLING CODE 4510-30-P